ENVIRONMENTAL PROTECTION AGENCY

40 CFR Part 721

[EPA-HQ-OPPT-2011-0941; FRL-9974-60]

RIN 2070-AB27

Modification of Significant New Use of a Certain Chemical Substance; Extension of Comment Period

AGENCY: Environmental Protection Agency (EPA).

ACTION: Proposed rule; extension of comment period.

SUMMARY: EPA issued a proposed rule in the Federal Register of February 8, 2018, proposing to amend the significant new use rule (SNUR) under section 5(a)(2) of the Toxic Substances Control Act (TSCA) for oxazolidine, 3,3′-methylenebis[5-methyl-, which was the subject of a premanufacture notice (PMN) and a significant new use notice (SNUN). This document extends the comment period for 17 days and provides notice that EPA has added two documents to the docket.

DATES: The comment period for the proposed rule published February 8, 2018 (83 FR 5598) is extended. This document extends the comment period for 17 days, from February 23, 2018, to March 12, 2018. Comments, identified by docket identification (ID) number EPA-HQ-OPPT-2011-0941, must be received on or before March 12, 2018.

ADDRESSES: Follow the detailed instructions provided under ADDRESSES in the Federal Register document of February 8, 2018 (83 FR 5598) (FRL-9973-02).

FOR FURTHER INFORMATION CONTACT:

For technical information contact: Kenneth Moss, Chemical Control Division, Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of February 8, 2018 (83 FR 5598) (FRL-9973-02), which proposed amendments to the SNUR for the chemical substance in 40 CFR 721.10461. EPA has added two documents to the docket: the redacted (to mask information claimed as confidential business information) Significant New Use Notice for oxazolidine, 3,3′-methylenebis[5-methyl-,; and a revised redacted version of the Structure Activity Team report. In order to give all interested persons the opportunity to comment fully, EPA is hereby extending the comment period, which was set to end on February 23, 2018, to March 12, 2018.

To submit comments, or access the docket, please follow the detailed instructions provided under ADDRESSES in the Federal Register document of February 8, 2018. If you have questions, consult the technical person listed under FOR FURTHER INFORMATION CONTACT.

List of Subjects in 40 CFR Part 721

Environmental protection, Chemicals, Hazardous Substances, Reporting and recordkeeping requirements.

Dated: February 15, 2018.
Jeffery T. Morris,
Director, Office of Pollution Prevention and Toxics.

[FR Doc. 2018-03843 Filed 2-23-18; 8:45 am]

BILLING CODE 6560-50-P